DEPARTMENT OF COMMERCE

International Trade Administration

[A-421-807]

Certain Hot-Rolled Carbon Steel Flat Products from the Netherlands; Final Results of the Sunset Review of Antidumping Duty Order and Revocation of the Order

AGENCY: Import Administration, International Trade Administration, Department of Commerce.

SUMMARY: On February 16, 2007, the Department of Commerce (“the Department”) published a notice of preliminary results of the full sunset review of the antidumping duty order on certain hot-rolled carbon steel flat products from the Netherlands pursuant to section 751(c) of the Tariff Act of 1930, as amended (“the Act”). Since the publication of the preliminary results, the order has been revoked. Consequently, in the absence of an order currently in force, the Department cannot make a finding that revocation of the antidumping duty order would likely lead to the continuation or recurrence of dumping.

EFFECTIVE DATE: June 27, 2007.

FOR FURTHER INFORMATION CONTACT: Steve Bezirganian or Robert James, AD/CVD Operations, Office 7, Import Administration, International Trade Administration, U.S. Department of Commerce, 14th Street & Constitution Avenue, NW. Washington, DC, 20230; telephone: 202-482-1131 and 202-482-0649, respectively.

SUPPLEMENTARY INFORMATION:

Background

The Department published the antidumping dumping duty order in the Federal Register on November 29, 2001. See Antidumping Duty Order: Certain Hot-Rolled Carbon Steel Flat Products From the Netherlands, 66 FR 59565 (November 29, 2001). On February 16, 2007, the Department published a notice of preliminary results of the full sunset review of the antidumping duty order on certain hot-rolled carbon steel flat products from the Netherlands pursuant to section 751(c) of the Act. See Certain Hot-Rolled Carbon Steel Flat Products from the Netherlands; Preliminary Results of the Sunset Review of Antidumping Duty Order, 72 FR 7604 (February 16, 2007) (“Preliminary Results”). We provided interested parties an opportunity to comment on our preliminary results. The Department received a case brief from Corus Staal BV (“Corus Staal”) on April 16, 2007, and rebuttal briefs from United States Steel Corporation, Mittal Steel USA Inc., and Nucor Corporation on April 27, 2007. A hearing was not held because none was requested.

Scope of the Order

For purposes of this order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of the order. Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such silicon and aluminum.

Steel products to be included in the scope of this order, regardless of definitions in the Harmonized Tariff Schedule of the United States (HTSUS), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled steel products in which at least one of the chemical elements exceeds those listed above (including, e.g., ASTM specifications A543, A387, A514, A517, A506).

• Society of Automotive Engineers (SAE)/American Iron and Steel Institute (AISI) grades of series 2300 and higher.

• Ball bearings steels, as defined in the HTSUS.

• Tool steels, as defined in the HTSUS.

• Silico-manganese (as defined in the HTSUS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.01.80. Subject merchandise may also enter under 7210.70.30.00, 7210.90.90.00, 7211.14.00.30, 7212.40.10.00, 7212.40.50.00, and 7212.50.00.00. Although the HTSUS subheadings are provided for convenience and U.S. Customs purposes, the written description of the scope of this order is dispositive.

Analysis of Comments Received

All issues raised in this sunset review are referenced in the “Issues and Decision Memorandum for the Sunset Review of the Antidumping Duty Order on Certain Hot-Rolled Carbon Steel Flat Products from the Netherlands; Final Results,” to David M. Spooner, Assistant Secretary for Import Administration, dated June 20, 2007 (“Decision Memorandum”), which is hereby adopted by this notice. A list of the issues which parties have raised, all of which are in the Decision Memorandum, is attached to this notice as an appendix. Parties can find this memorandum on file in the Central Records Unit, room B-099 of the main Department building. In addition, a complete version of the Decision Memorandum can be accessed directly via the Internet at www.ia.ita.doc.gov. The paper copy and electronic version of the Decision Memorandum are identical in content.

Final Results of Review

Section 751(d)(2) of the Act requires the Department in a sunset review to “revoke...an antidumping duty order or finding,...unless...{it} makes a determination that dumping...would be likely to continue or recur....” Thus, the finding of likelihood is contingent upon an analysis of what would happen if an order is revoked. This presumes the existence of an antidumping duty order currently in force, which is manifestly not the case here. Consequently, in the absence of an order currently in force, the Department cannot make a finding that it is likely that dumping will continue or recur if the order is revoked. Consistent with 19 CFR 351.222(i)(2)(i), this revocation will be effective November 29, 2006, the fifth anniversary of the date of publication of the order.

We will notify the U.S. International Trade Commission (“ITC”) of our final results. We do not intend, however, to report a rate to the ITC as the Department did not determine that revocation of the order would likely lead to continuation or recurrence of dumping.

The Department will instruct U.S. Customs and Border Protection to liquidate without regard to dumping duties entries of the subject merchandise entered or withdrawn from warehouse for consumption on or after November 29, 2006 (the effective date of this revocation), and to discontinue collection of cash deposits of antidumping duties for entries of subject merchandise entered or withdrawn from warehouse for consumption on or after November 29, 2006.

This notice serves as a final reminder to parties subject to administrative protective order (“APO”) of their responsibility concerning the disposition of proprietary material disclosed under APO in accordance with 19 CFR 351.305. Timely notification of return/destruction of APO materials or conversion to judicial protective order is hereby requested. Failure to comply with the regulations and the terms of an APO is a sanctionable violation.

This sunset review and notice are in accordance with sections 751(c), 752, and 777(i)(1) of the Act.

Dated: June 20, 2007.
David M. Spooner,
Assistant Secretary for Import Administration.

Appendix - Issues in Decision Memorandum

1. Whether “other factors” require that the Department consider two recent World Trade Organization (“WTO”) determinations with respect to zeroing

2. Whether the Department's conclusion in the April 9, 2007, “Issues and Decision Memorandum for the Final Results of the Section 129 Determinations” (“Final Section 129 Determination”) to revoke the order undermines the validity of Preliminary Results

3. Whether the Department's implementation in “Final Section 129 Determination” of WTO rulings pertaining to zeroing undermines the validity of Preliminary Results

4. Whether the recalculated weighted-average margin of zero percent for Corus Staal in “Final Section 129 Determination” undermines the “likely margin to prevail” if the order were revoked that was referenced in Preliminary Results

5. Whether the Department may rely on the presumptions embodied in Policies Regarding the Conduct of Five-year (“Sunset”) Reviews of Antidumping and Countervailing Duty Orders; Policy Bulletin, 63 FR 18871, 18872 (April 16, 1998) (“Sunset Review Policy Bulletin”)

6. Whether the Department's decision in “Final Section 129 Determination” to revoke the order means that Corus Staal will not dump in the future

7. Whether Sunset Review Policy Bulletin presupposes a validly issued order and would not apply in the absence of a validly issued order

8. Whether the Department may rely on margins calculated in administrative reviews based on zeroing

9. Whether domestic producers' withdrawals of administrative review requests prevented meaningful analysis of import and margin trends.

10. The impact of the Section 201 tariffs on steel product imports.

11. The significance of declining margins and steady (or rising) imports

[FR Doc. E7-12435 Filed 6-26-07; 8:45 am]

BILLING CODE 3510-DS-P